DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for a project in Honolulu, HI. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before March 31, 2014.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA administrative record for the project. Interested parties may contact either the project sponsor or the relevant FTA Regional Office for more information on the project. Contact information for FTA's Regional Offices may be found at http://www.fta.dot.gov.

This notice applies to all FTA decisions on the listed project as of the issuance date of this notice and all laws under which such actions were taken, including, but not limited to, NEPA [42 U.S.C. 4321-4375] and Section 4(f) of the Department of Transportation Act of 1966 [49 U.S.C. 303]. This notice does not alter or extend the limitation period for challenges of project decisions subject to previous notices for the Honolulu High-Capacity Transit Corridor Project published in the Federal Register. The project and actions that are the subject of this notice are:

Project name and location: Honolulu Rail Transit Project, City and County of Honolulu, O'ahu, HI. Project sponsor: Honolulu Authority for Rapid Transportation (HART). Project description: The Honolulu Rail Transit Project (Project) is a 20-mile grade-separated, fixed-guideway rail transit project that extends from Kapolei to Ala Moana Center, via the Honolulu waterfront. In June 2010, the FTA and City and County of Honolulu (City) prepared and distributed a Final Environmental Impact Statement/Section 4(f) Evaluation [EIS/4(f)] for the Project, which was then called the Honolulu High-Capacity Transit Corridor Project. The Final EIS/4(f) identified environmental impacts and mitigations for the Project, including the use of properties protected under Section 4(f) of the Department of Transportation Act. In January 2011, the FTA issued a Record of Decision (ROD) for the Project. Subsequently, the FEIS and ROD were challenged in federal court. On November 1, 2012, the Court issued a Judgment and Partial Injunction Order (Judgment) of the United States District Court for the District of Hawai`i (Court) in HonoluluTraffic.com et al. v. Federal Transit Administration et al., 2012 WL 5386595 (D. Haw. 2012). Pursuant to that decision, the FTA prepared additional analysis for the Project. The FTA prepared a draft version and final version Supplemental EIS/4(f). The Supplemental EIS/4(f) was limited in its scope. Thus, the FTA issued the Final Supplemental EIS/Section 4(f) concurrently with an Amended ROD per Public Law 112-141, 126 Stat. 405, Section 1319(b). This notice only applies to the discrete actions taken by the FTA at this time. Nothing in this notice affects the FTA's previous decisions, or notice thereof, for this project. Final agency actions: Section 4(f) determination and Amended Record of Decision, dated September 30, 2013. Supporting documentation: Final Supplemental Environmental Impact Statement/Section 4(f) Evaluation, dated September 30, 2013.

Lucy Garliauskas,
Associate Administrator for Planning and Environment.

[FR Doc. 2013-25972 Filed 10-31-13; 8:45 am]

BILLING CODE P